DEPARTMENT OF HOUSING AND URBAN DEVELOPMENT

[Docket No. FR-5932-N-03]

Request for Specific Policy Proposals and Methods of Research and Evaluation for MTW Demonstration Expansion; Extension of Comment Period

AGENCY: Office of the Assistant Secretary for Public and Indian Housing, and Office of the Assistant Secretary for Policy Development and Research, HUD.

ACTION: Notice; extension of comment period.

SUMMARY: HUD is extending the comment period to solicit recommendations for specific policy proposals and methods of research and evaluation to be implemented as part of the expansion of the Moving to Work (MTW) demonstration program. The original comment period will end on May 4, 2016, but HUD is extending that period for 14 days to allow interested parties to prepare and submit their comments.

DATES: Comments on the April 4, 2016 Request for Specific Policy Proposals and Methods of Research and Evaluation for MTW Demonstration Expansion are due on or before May 18, 2016.

ADDRESSES: Interested persons are invited to submit comments regarding specific policy and evaluation proposals to the Moving to Work Office, Office of Public and Indian Housing, Department of Housing and Urban Development, 451 Seventh Street SW., Room 4130, Washington, DC 20410-0001 or email at mtw-info@hud.gov. HUD strongly encourages commenters to submit comments electronically. Communications must refer to the above docket number and title and should contain the information specified in the “Request for Public Comments” section.

No Facsimile Comments. Facsimile (FAX) comments are not acceptable.

Public Inspection of Public Comments. A summary of all comments received by HUD will be made available on HUD's Web site at: http://www.hud.gov/mtw.

FOR FURTHER INFORMATION CONTACT: Questions concerning this notice should be directed to the Moving to Work Office, Office of Public and Indian Housing, Department of Housing and Urban Development at mtw-info@hud.gov.

SUPPLEMENTARY INFORMATION: On April 4, 2016 (81 FR 19233), HUD published an advanced notice seeking input from the general public, public housing agencies, HUD-assisted housing residents, researchers, and HUD stakeholders on two objectives, specific policy proposal recommendations, and research and evaluation proposal recommendations, as part of the expansion of the MTW demonstration. First, HUD seeks specific policy proposal recommendations related to the three MTW demonstration statutory objectives of cost effectiveness, self-sufficiency, and housing choice.

Second, HUD also seeks recommendations for research and evaluation methods to be utilized in association with specific policy proposals that will be implemented by MTW agencies in the expanded MTW demonstration. In response to several requests, HUD is extending the comment period for an additional 14 days.

Dated: April 28, 2016.
Lourdes Castro Ramírez,
Principal Deputy Assistant, Secretary for Public and Indian Housing.
Katherine M. O'Regan,
Assistant Secretary for Policy Development and Research.

[FR Doc. 2016-10454 Filed 5-3-16; 8:45 am]

BILLING CODE 4210-67-P